DEPARTMENT OF DEFENSE

Department of the Army

Notice of Availability of Novel Ceramic Ferroelectric Materials Patents for Exclusive, Partially Exclusive or Non-exclusive Licenses (Manufacturing Only)

AGENCY: U.S. Army Research Laboratory, DoD.

ACTION: Notice of Availability.

SUMMARY: The Department of the Army re-announces the general availability of exclusive, partially exclusive or non-exclusive licenses (manufacturing only) relative to U.S. Patent No. 5,486,491, issued 23 Jan 1996, entitled “Ceramic Ferroelectric Composite Material—BSTO-ZRO2”, U.S. Patent No. 5,312,790, issued 17 May 1994, entitled “Ceramic Ferroelectric Material”, and U.S. Patent No. 5,427,988, issued 27 Jun 1995, entitled “Ceramic Ferroelectric Composite Material—BSTO-MGO”. Licenses shall comply with 35 U.S.C. 209 and 37 CFR 404.

FOR FURTHER INFORMATION CONTACT: Michael D. Rausa, U.S. Army Research Laboratory, Office of Research and Technology Applications, ATTN: AMSRL-CS-TT/Bldg. 459, Aberdeen Proving Ground, Maryland 21005-5425, Telephone: (410) 278-5028.

SUPPLEMENTARY INFORMATION: None.

Gregory D. Showalter,
Army Federal Register Liaison Officer.

[FR Doc. 00-23916 Filed 9-15-00; 8:45 am]

BILLING CODE 3710-08-M